DEPARTMENT OF TRANSPORTATION

Federal Aviation Administration

14 CFR Part 39

[Docket No. FAA-2012-0596; Directorate Identifier 2011-NM-245-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-200 freighter series airplanes, Model A330-200 and -300 series airplanes, and Model A340-200, -300, -500, and -600 series airplanes. This proposed AD was prompted by reports of the ram air turbine (RAT) not deploying when tested. This proposed AD would require identification of the supplier, part number, and serial number of the installed RAT actuator, and re-identification of the actuator and RAT, or replacement of the RAT actuator with a serviceable unit and re-identification of the RAT, if necessary. We are proposing this AD to prevent non-deployment of the RAT, which if occurred following a total engine flame-out, or during a total loss of normal electrical power generation, could result in reduced control of the airplane.

DATES: We must receive comments on this proposed AD by August 2, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Hamilton Sunstrand service information identified in this proposed AD, contact Hamilton Sundstrand, Technical Publications, Mail Stop 302-9, 4747 Harrison Avenue, P.O. Box 7002, Rockford, Illinois 61125-7002; telephone 860-654-3575; fax 860-998-4564; email tech.solutions@hs.utc.com; Internet http://www.hamiltonsundstrand.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA. 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0596; Directorate Identifier 2011-NM-245-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0204, dated October 14, 2011 (referred to after this as “the MCAI”), to correct an unsafe condition for the specified products. The MCAI states:

During a production test flight, a Ram Air Turbine (RAT) did not deploy when tested. An investigation, conducted by the RAT manufacturer Hamilton Sundstrand (HS) and Arkwin Industries, revealed that the RAT did not deploy due to insufficient stroke inside one of the actuator deployment solenoids.

This condition, if occurring following a total engine flame out, or during a total loss of normal electrical power generation, could possibly result in reduced control of the aeroplane.

For the reasons described above, this [EASA] AD requires the modification of the affected RAT actuator deployment mechanism, or replacement of the RAT actuator with a modified unit.

The required actions include identification of the supplier, part number, and serial number of the installed RAT actuator, and re-identification of the actuator and RAT, or replacement of the RAT actuator with a serviceable unit and re-identification of the RAT, if necessary. You may obtain further information by examining the MCAI in the AD docket.

Relevant Service Information

Airbus has issued the following service bulletins:

• Airbus Mandatory Service Bulletin A330-29-3114, dated May 18, 2011.

• Airbus Mandatory Service Bulletin A340-29-4089, dated May 18, 2011.

• Airbus Mandatory Service Bulletin A340-29-5018, dated May 18, 2011.

Hamilton Sundstrand has issued the following service bulletins:

• Hamilton Sundstrand Service Bulletin ERPS06M-29-18, dated March 8, 2011.

• Hamilton Sundstrand Service Bulletin ERPS33T-29-5, dated March 8, 2011.

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 56 products of U.S. registry. We also estimate that it would take about 14 work-hours per product to comply with the basic requirements of this proposed AD. The average labor rate is $85 per work-hour. Required parts would cost about $0 per product. Where the service information lists required parts costs that are covered under warranty, we have assumed that there will be no charge for these parts. As we do not control warranty coverage for affected parties, some parties may incur costs higher than estimated here. Based on these figures, we estimate the cost of the proposed AD on U.S. operators to be $66,640, or $1,190 per product.

In addition, we estimate that any necessary follow-on actions would take about 13 work-hours and require parts costing $0, for a cost of $1,105 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0596; Directorate Identifier 2011-NM-245-AD.

(a) Comments Due Date

We must receive comments by August 2, 2012.

(b) Affected ADs

None.

(c) Applicability

This AD applies to the airplanes identified in paragraphs (c)(1) and (c)(2) of this AD; certificated in any category.

(1) Airbus Model A330-201, -202, -203, -223, -243, -223F -243F, -301, -302, -303, -321, -322, -323, -341, -342, and -343 airplanes, all manufacturer serial numbers (MSN); except those on which Airbus modification 201043 has been embodied in production.

(2) Airbus Model A340-211, -212, -213, -311, -312, -313, -541, and -642 airplanes, all MSN; except those on which Airbus modification 201043 or 201042 has been embodied in production.

(d) Subject

Air Transport Association (ATA) of America Code 29: Hydraulic Power.

(e) Reason

This AD was prompted by reports of the ram air turbine (RAT) not deploying when tested. We are issuing this AD to prevent non-deployment of the RAT, which if occurred following a total engine flame-out, or during a total loss of normal electrical power generation, could result in reduced control of the airplane.

(f) Compliance

You are responsible for having the actions required by this AD performed within the compliance times specified, unless the actions have already been done.

(g) Identification and Replacement for Certain Airbus Model A330, and A340-200 and -300 Airplanes

(1) For Airbus Model A330-200 freighter series, A330-200 and -300 series airplanes, and Model A340-200 and -300 series airplanes: Within 15,000 flight hours or 36 months, whichever occurs first after the effective date of this AD, identify the supplier, part number, and serial number of the installed RAT actuator, in accordance with the Accomplishment Instructions of Airbus Mandatory Service Bulletin A330-29-3114, dated May 18, 2011 (for Model A330-200 freighter series airplanes, Model A330-200 and -300 series airplanes); or Airbus Mandatory Service Bulletin A340-29-4089, dated May 18, 2011 (for Model A340-200 and -300 series airplanes).

(i) If the supplier identified is Arkwin, and the identified actuator part number and serial number are listed as already modified in Hamilton Sundstrand Service Bulletin ERPS06M-29-18, dated March 8, 2011, but not yet re-identified, before further flight, re-identify the actuator and the RAT, in accordance with the Accomplishment Instructions of Airbus Mandatory Service Bulletin A330-29-3114, dated May 18, 2011 (for Model A330-200 freighter series airplanes, Model A330-200 and -300 series airplanes); or Airbus Mandatory Service Bulletin A340-29-4089, dated May 18, 2011 (for Model A340-200 and -300 series airplanes).

(ii) If the supplier identified is Arkwin and the identified actuator part number and serial number are listed as not modified in Hamilton Sundstrand Service Bulletin ERPS06M-29-18, dated March 8, 2011, before further flight, replace the RAT actuator with a serviceable unit, and re-identify the RAT, in accordance with the Accomplishment Instructions of Airbus Mandatory Service Bulletin A330-29-3114, dated May 18, 2011 (for Model A330-200 freighter series airplanes, Model A330-200 and -300 series airplanes); or Airbus Mandatory Service Bulletin A340-29-4089, dated May 18, 2011 (for Model A340-200 and -300 series airplanes).

(h) Identification and Replacement for Certain Airbus Model A340-500 and -600 Airplanes

(1) For Model A340-500 and -600 Airplanes: Within 15,000 flight hours or 36 months, whichever occurs first after the effective date of this AD, identify the part number and serial number of the installed RAT actuator, in accordance with the Accomplishment Instructions of Airbus Mandatory Service Bulletin A340-29-5018, dated May 18, 2011.

(i) If the identified actuator part number and serial number are listed as already modified in Hamilton Sundstrand Service Bulletin ERPS33T-29-5, dated March 8, 2011, but not yet re-identified, before further flight, re-identify the actuator and the RAT, in accordance with the Accomplishment Instructions of Airbus Mandatory Service Bulletin A340-29-5018, dated May 18, 2011.

(ii) If the identified actuator part number and serial number are listed as not modified in Hamilton Sundstrand Service Bulletin ERPS33T-29-5, dated March 8, 2011, before further flight, replace the RAT actuator with a serviceable unit, and re-identify the RAT, in accordance with the Accomplishment Instructions of Airbus Mandatory Service Bulletin A340-29-5018, dated May 18, 2011.

(i) Parts Installation

(1) As of the effective date of this AD, no person may install any RAT actuator having part number (P/N) 5912958 or P/N 1211575-001, or any RAT having P/N 1702934A having a serial number listed as affected in Hamilton Sundstrand Service Bulletin ERPS06M-29-18, dated March 8, 2011, on any airplane, unless the RAT actuator has been replaced with a serviceable unit and the RAT has been re-identified, as applicable, in accordance with the Accomplishment Instructions of Airbus Mandatory Service Bulletin A330-29-3114, dated May 18, 2011 (for Model A330-200 freighter series airplanes, Model A330-200 and -300 series airplanes); or Airbus Mandatory Service Bulletin A340-29-4089, dated May 18, 2011 (for Model A340-200 and -300 series airplanes).

(2) As of the effective date of this AD, no person may install any RAT actuator having P/N 5912536 or P/N 1211526-002, or any RAT having P/N 772722F having a serial number listed as affected in Hamilton Sundstrand Service Bulletin ERPS33T-29-5, dated March 8, 2011, on any airplane, unless the RAT actuator has been replaced with a serviceable unit and the RAT has been re-identified, as applicable, in accordance with the Accomplishment Instructions of Airbus Mandatory Service Bulletin A340-29-5018, dated May 18, 2011.

(j) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

(1) Refer to MCAI European Aviation Safety Agency Airworthiness Directive 2011-0204, dated October 14, 2011; and the service information specified in paragraphs (k)(1)(i), (k)(1)(ii), (k)(1)(iii), (k)(1)(iv), and (k)(1)(v) of this AD; for related information.

(i) Airbus Mandatory Service Bulletin A330-29-3114, dated May 18, 2011.

(ii) Airbus Mandatory Service Bulletin A340-29-4089, dated May 18, 2011.

(iii) Airbus Mandatory Service Bulletin A340-29-5018, dated May 18, 2011.

(iv) Hamilton Sundstrand Service Bulletin ERPS06M-29-18, dated March 8, 2011.

(v) Hamilton Sundstrand Service Bulletin ERPS33T-29-5, dated March 8, 2011.

(2) For Airbus service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. For Hamilton Sunstrand service information identified in this AD, contact Hamilton Sundstrand, Technical Publications, Mail Stop 302-9, 4747 Harrison Avenue, P.O. Box 7002, Rockford, Illinois 61125-7002; telephone 860-654-3575; fax 860-998-4564; email tech.solutions@hs.utc.com; Internet http://www.hamiltonsundstrand.com. You may review copies of the referenced service information at the FAA, Transport Airplane Directorate, 1601 Lind Avenue SW., Renton, Washington. For information on the availability of this material at the FAA, call 425-227-1221.

Issued in Renton, Washington, on June 6, 2012.
Michael Kaszycki,
Acting Manager, Transport Airplane Directorate, Aircraft Certification Service.

[FR Doc. 2012-14796 Filed 6-15-12; 8:45 am]

BILLING CODE 4910-13-P